DEPARTMENT OF TRANSPORTATION

National Highway Traffic Safety Administration

Reports, Forms, and Recordkeeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below is being forwarded to the Office of Management and Budget (OMB) for review and comment. The ICR describes the nature of the information collection and the expected burden. A Federal Register Notice with a 60-day comment period was published on June 13, 2012 (77 FR 35473-35475).

DATES: Submit comments to the Office of Management and Budget (OMB) on or before December 31, 2012.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

FOR FURTHER INFORMATION CONTACT: Dr. Maria Vegega at the National Highway Traffic Safety Administration, Office of Impaired Driving and Occupant Protection, W44-302, Department of Transportation, 1200 New Jersey Avenue SE., Washington, DC 20590. Dr. Vegega's phone number is 202-366-2668 and her email address is maria.vegega@dot.gov.

SUPPLEMENTARY INFORMATION: Title: NHTSA Distracted Driving Survey Project.

Type of Request: Revision of previously approved collection of information.

OMB Control Number: 2127-0665.

NHTSA Form Number: NHTSA Form 1084.

Abstract: The National Highway Traffic Safety Administration (NHTSA) proposes to conduct awareness surveys to evaluate a traffic safety program designed to reduce distracted driving. The program will focus on hand-held phone use and be conducted in two States—either statewide or a multi-jurisdictional area in a state. The awareness surveys would be conducted in-person before and after three program waves. Over the program period, 24,000 drivers would be surveyed, 12,000 in each State. Estimated interview length would be approximately 5 minutes for the survey. Information on attitudes, awareness, knowledge, and behavior would be collected.

A Spanish-language translation and bilingual interviewers would be used to minimize language barriers to participation. Additionally, the proposed survey would be voluntary and anonymous; the surveys would not collect any personal information that would allow anyone to identify respondents.

The findings from the proposed information collection would build on and add to the existing knowledge on distracted driving. In 2010 and 2011, NHTSA conducted a high visibility enforcement program in Hartford, Connecticut and Syracuse, New York using enhanced enforcement and the media campaign, Phone in One Hand, Ticket in the Other, to reduce distracted driving behavior. The program demonstrated that this could be done at the community level, exhibited by decreases in both observed hand-held phone use and electronic device manipulation (e.g., texting). The next major step is to demonstrate how this program can be implemented on a larger basis, either statewide or multi-jurisdiction, which is the focus of the current demonstration project. The findings from the survey will provide insight into the success of expanding the high visibility enforcement effort statewide.

Affected Public: NHTSA intends to collect data from 24,000 licensed drivers to conduct awareness surveys for the distracted driving evaluation program effort. The distracted driving program will be conducted in two States—either statewide or in a multi-jurisdictional area in a State. Awareness surveys would be administered in-person to a licensed driver population 18 years and older, before and after three program waves. Over 3 waves (i.e., 6 measurement periods), 24,000 drivers would be surveyed in both States (12,000 in each State). Participation by all respondents would be voluntary and anonymous.

Estimated Total Annual Burden: NHTSA estimates interviews would require an average of 5 minutes to complete, or a total of 2,000 hours for the 24,000 respondents.

Comments are invited on the following:

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. Section 3506(c)(2)(A).

Issued in Washington, DC on: November 27, 2012.
Jeffrey Michael,
Associate Administrator, Research and Program Development.

[FR Doc. 2012-28984 Filed 11-29-12; 8:45 am]

BILLING CODE 4910-59-P